DEPARTMENT OF LABOR

Employment and Training Administration

[TA-W-60,619]

Alcan Packaging, Inc.; d/b/a Pechiney Plastic Packaging, Inc.; Lincoln Park, NJ; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on January 19, 2007, applicable to workers of Alcan Packaging, Inc., Lincoln Park, New Jersey. The notice was published in the Federal Register on February 7, 2007 (72 FR 5748).

At the request of the State agency, the Department reviewed the certification for workers of the subject firm. The workers were engaged in the production of plastic cosmetic packaging.

New information shows that plastic tube and the laminate tube unit of Alcan Packaging is doing business as Pechiney Plastic Packaging, Inc. Workers separated from employment at the subject firm had their wages reported under a separate unemployment insurance (UI) tax account for Pechiney Plastic Packaging, Inc.

Accordingly, the Department is amending the certification to properly reflect this matter.

The intent of the Department's certification is to include all workers of Alcan Packaging, Inc. who were adversely affected by a shift in production to Mexico.

The amended notice applicable to TA-W-60,619 is hereby issued as follows:

“All workers of Alcan Packaging, Inc., d/b/a Pechiney Plastic Packaging, Inc., Lincoln Park, New Jersey, who became totally or partially separated from employment on or after December 1, 2005, through January 19, 2009, are eligible to apply for adjustment assistance under Section 223 of the Trade Act of 1974, and are also eligible to apply for alternative trade adjustment assistance under Section 246 of the Trade Act of 1974.”

Signed at Washington, DC, this 20th day of March 2007.
Richard Church,
Certifying Officer, Division of Trade Adjustment Assistance.

[FR Doc. E7-5847 Filed 3-29-07; 8:45 am]

BILLING CODE 4510-FN-P